DEPARTMENT OF COMMERCE

National Oceanic and Atmospheric Administration

[I.D. 012405A]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting, which is open to the public.

DATES: The GMT meeting will be held Tuesday, February 15, 2005 from 1 p.m. until business for the day is completed. There will be a closed session on Tuesday, February 15, 2005 from 1 p.m. until 1:30 p.m. which is closed to all except GMT members, their designees, and others designated by the chair to discuss personnel matters. The GMT meeting will reconvene Wednesday, February 16 through Friday, February 18, from 8:30 a.m. until business for the day is completed.

ADDRESSES: The GMT meeting will be held at the Residence Inn by Marriott, Portland Downtown—Riverplace, Fremont Room, 2115 SW River Parkway, Portland, OR 97201. Telephone: 503-552-9500.

Council address: Pacific Fishery Management Council, 7700 NE Ambassador Place, Suite 200, Portland, OR 97220-1384.

FOR FURTHER INFORMATION CONTACT: Mr. John DeVore, Groundfish Management Coordinator; telephone: 503-820-2280.

SUPPLEMENTARY INFORMATION: The purpose of the GMT meeting is to plan the GMT's annual schedule and strategies to effectively aid the Council in managing 2005 West Coast groundfish fisheries and Council initiatives expected to arise in 2005. Additionally, the GMT will discuss groundfish management measures in place for the winter and spring months, respond to assignments relating to implementation of the Council's groundfish strategic plan, discuss a new Pacific whiting stock assessment and develop recommended management measures for the 2005 whiting fishery, discuss implementation strategies for Groundfish Fishery Management Plan Amendment 18, develop new data management tools, and address other assignments relating to groundfish management. No management actions will be decided by the GMT. The GMT's role will be development of recommendations for consideration by the Council at its March meeting in Sacramento, California.

Although nonemergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at 503-820-2280 at least 5 days prior to the meeting date.

Dated: January 24, 2005.
Alan D. Risenhoover,
Acting Director, Office of Sustainable Fisheries, National Marine Fisheries Service.

[FR Doc. E5-309 Filed 1-26-05; 8:45 am]

BILLING CODE 3510-22-S